DEPARTMENT OF COMMERCE

National Oceanic and Atmospheric Administration

50 CFR Part 679

[Docket No. 230306-0065]

RTID 0648-XC365

Fisheries of the Exclusive Economic Zone Off Alaska; Bering Sea and Aleutian Islands; Final 2023 and 2024 Harvest Specifications for Groundfish

Correction

In rule document 2023-04877 beginning on page 14926 in the issue of Friday, March 10, 2023, make the following corrections:

1. Table 1, beginning on page 14928, should appear as follows:

Table 1—Final 2023 Overfishing Level (OFL), Acceptable Biological Catch (ABC), Total Allowable Catch (TAC), Initial TAC (ITAC), CDQ Reserve Allocation, and Non-Specified Reserves of Groundfish in the BSAI ¹
[Amounts are in metric tons]
Species | Area | 2023: OFL | 2023: ABC | 2023: TAC | 2023: ITAC ² | 2023: CDQ ³ | 2023: Nonspecified reserves
Pollock ⁴ | BS | 3,381,000 | 1,910,000 | 1,300,000 | 1,170,000 | 130,000 |
| AI | 52,383 | 43,413 | 19,000 | 17,100 | 1,900 |
| Bogoslof | 115,146 | 86,360 | 300 | 300 |  |
Pacific cod ⁵ | BS | 172,495 | 144,834 | 127,409 | 113,776 | 13,633 |
| AI | 18,416 | 13,812 | 8,425 | 7,524 | 901 |
Sablefish ⁶ | Alaska-wide | 47,390 | 40,502 | n/a | n/a | n/a |
| BS | n/a | 8,417 | 7,996 | 6,597 | 1,099 | 300
| AI | n/a | 8,884 | 8,440 | 6,858 | 1,424 | 158
Yellowfin sole | BSAI | 404,882 | 378,499 | 230,000 | 205,390 | 24,610 |
Greenland turbot | BSAI | 4,645 | 3,960 | 3,960 | 3,366 | n/a |
| BS | n/a | 3,338 | 3,338 | 2,837 | 357 | 144
| AI | n/a | 622 | 622 | 529 |  | 93
Arrowtooth flounder | BSAI | 98,787 | 83,852 | 15,000 | 12,750 | 1,605 | 645
Kamchatka flounder | BSAI | 8,946 | 7,579 | 7,579 | 6,442 |  | 1,137
Rock sole ⁷ | BSAI | 166,034 | 121,719 | 66,000 | 58,938 | 7,062 |
Flathead sole ⁸ | BSAI | 79,256 | 65,344 | 35,500 | 31,702 | 3,799 |
Alaska plaice | BSAI | 40,823 | 33,946 | 17,500 | 14,875 |  | 2,625
Other flatfish ⁹ | BSAI | 22,919 | 17,189 | 4,500 | 3,825 |  | 675
Pacific ocean perch | BSAI | 50,133 | 42,038 | 37,703 | 33,157 | n/a |
| BS | n/a | 11,903 | 11,903 | 10,118 |  | 1,785
| EAI | n/a | 8,152 | 8,152 | 7,280 | 872 |
| CAI | n/a | 5,648 | 5,648 | 5,044 | 604 |
| WAI | n/a | 16,335 | 12,000 | 10,716 | 1,284 |
Northern rockfish | BSAI | 22,776 | 18,687 | 11,000 | 9,350 |  | 1,650
Blackspotted/Rougheye rockfish ¹⁰ | BSAI | 703 | 525 | 525 | 446 |  | 79
| BS/EAI | n/a | 359 | 359 | 305 |  | 54
| CAI/WAI | n/a | 166 | 166 | 141 |  | 25
Shortraker rockfish | BSAI | 706 | 530 | 530 | 451 |  | 80
Other rockfish ¹¹ | BSAI | 1,680 | 1,260 | 1,260 | 1,071 |  | 189
| BS | n/a | 880 | 880 | 748 |  | 132
| AI | n/a | 380 | 380 | 323 |  | 57
Atka mackerel | BSAI | 118,787 | 98,588 | 69,282 | 61,869 | 7,413 |
| BS/EAI | n/a | 43,281 | 27,260 | 24,343 | 2,917 |
| CAI | n/a | 17,351 | 17,351 | 15,494 | 1,857 |
| WAI | n/a | 37,956 | 24,671 | 22,031 | 2,640 |
Skates | BSAI | 46,220 | 38,605 | 27,441 | 23,325 |  | 4,116
Sharks | BSAI | 689 | 450 | 250 | 213 |  | 38
Octopuses | BSAI | 4,769 | 3,576 | 400 | 340 |  | 60
Total |  | 4,859,585 | 3,155,268 | 2,000,000 | 1,789,662 | 196,564 | 13,773
Note: Regulatory areas and districts are defined at § 679.2 (BSAI=Bering Sea and Aleutian Islands management area, BS=Bering Sea subarea, AI=Aleutian Islands subarea, EAI=Eastern Aleutian district, CAI=Central Aleutian district, WAI=Western Aleutian district).
¹ These amounts apply to the entire BSAI management area unless otherwise specified. With the exception of pollock, and for the purpose of these harvest specifications, the Bering Sea subarea (BS) includes the Bogoslof District.
² Except for pollock, the portion of the sablefish TAC allocated to fixed gear, and Amendment 80 species (Atka mackerel, yellowfin sole, rock sole, flathead sole, Pacific cod, and Aleutian Islands Pacific ocean perch), 15 percent of each TAC is placed into a non-specified reserve (§ 679.20(b)(1)(i)). The ITAC for these species is the remainder of the TAC after the subtraction of these reserves. For pollock and Amendment 80 species, ITAC is the non-CDQ allocation of TAC (see footnotes 3 and 4).
³ For the Amendment 80 species (Atka mackerel, flathead sole, rock sole, yellowfin sole, Pacific cod, and Aleutian Islands Pacific ocean perch), 10.7 percent of the TAC is reserved for use by CDQ participants (see §§ 679.20(b)(1)(ii)(C)). 20 percent of the sablefish TAC allocated to fixed gear, 7.5 percent of the sablefish TAC allocated to trawl gear, and 10.7 percent of the TACs for Bering Sea Greenland turbot and arrowtooth flounder are reserved for use by CDQ participants (see § 679.20(b)(1)(ii)(B) and (D)). Aleutian Islands Greenland turbot, “other flatfish,” Alaska plaice, Bering Sea Pacific ocean perch, Kamchatka flounder, northern rockfish, shortraker rockfish, blackspotted/rougheye rockfish, “other rockfish,” skates, sharks, and octopuses are not allocated to the CDQ program.
⁴ Under § 679.20(a)(5)(i)(A), the annual BS pollock TAC, after subtracting first for the CDQ directed fishing allowance (10 percent) and second for the incidental catch allowance (50,000 mt), is further allocated by sector for a pollock directed fishery as follows: inshore—50 percent; catcher/processor—40 percent; and motherships—10 percent. Under § 679.20(a)(5)(iii)(B)(2), the annual AI pollock TAC, after subtracting first for the CDQ directed fishing allowance (10 percent) and second for the incidental catch allowance (2,500 mt), is allocated to the Aleut Corporation for a pollock directed fishery.
⁵ The BS Pacific cod TAC is set to account for the 12 percent, plus 45 mt, of the BS ABC for the State of Alaska's (State) guideline harvest level in State waters of the BS. The AI Pacific cod TAC is set to account for 39 percent of the AI ABC for the State guideline harvest level in State waters of the AI.
⁶ The sablefish OFL and ABC are Alaska-wide and include the Gulf of Alaska. The Alaska-wide sablefish OFL and ABC are included in the total OFL and ABC. The BS and AI sablefish TACs are set to account for the 5 percent of the BS and AI ABC for the State of Alaska's (State) guideline harvest level in State waters of the BS and AI.
⁷ “Rock sole” includes Lepidopsetta polyxystra (Northern rock sole) and Lepidopsetta bilineata (Southern rock sole).
⁸ “Flathead sole” includes Hippoglossoides elassodon (flathead sole) and Hippoglossoides robustus (Bering flounder).
⁹ “Other flatfish” includes all flatfish species, except for halibut (a prohibited species), Alaska plaice, arrowtooth flounder, flathead sole, Greenland turbot, Kamchatka flounder, rock sole, and yellowfin sole.
¹⁰ “Blackspotted/Rougheye rockfish” includes Sebastes melanostictus (blackspotted) and Sebastes aleutianus (rougheye).
¹¹ “Other rockfish” includes all Sebastes and Sebastolobus species except for dark rockfish, Pacific ocean perch, northern rockfish, blackspotted/rougheye rockfish, and shortraker rockfish.

2. Table 2, beginning on page 14930, should appear as follows:

Table 2—Final 2024 Overfishing Level (OFL), Acceptable Biological Catch (ABC), Total Allowable Catch (TAC), Initial TAC (ITAC), CDQ Reserve Allocation, and Non-Specified Reserves of Groundfish in the BSAI ¹
[Amounts are in metric tons]
Species | Area | 2024: OFL | 2024: ABC | 2024: TAC | 2024: ITAC ² | 2024: CDQ ³ | 2024: Nonspecified reserves
Pollock ⁴ | BS | 4,639,000 | 2,275,000 | 1,302,000 | 1,171,800 | 130,200 |
| AI | 52,043 | 43,092 | 19,000 | 17,100 | 1,900 |
| Bogoslof | 115,146 | 86,360 | 300 | 300 |  |
Pacific cod ⁵ | BS | 166,814 | 140,159 | 123,295 | 110,102 | 13,193 |
| AI | 18,416 | 13,812 | 8,425 | 7,524 | 901 |
Sablefish ⁶ | Alaska-wide | 48,561 | 41,539 | n/a | n/a | n/a |
| BS | n/a | 10,185 | 9,676 | 4,112 | 363 | 363
| AI | n/a | 10,308 | 9,793 | 2,081 | 184 | 184
Yellowfin sole | BSAI | 495,155 | 462,890 | 230,656 | 205,976 | 24,680 |
Greenland turbot | BSAI | 3,947 | 3,364 | 3,364 | 2,859 | n/a |
| BS | n/a | 2,836 | 2,836 | 2,411 | 303 | 122
| AI | n/a | 528 | 528 | 449 |  | 79
Arrowtooth flounder | BSAI | 103,070 | 87,511 | 15,000 | 12,750 | 1,605 | 645
Kamchatka flounder | BSAI | 8,776 | 7,435 | 7,435 | 6,320 |  | 1,115
Rock sole ⁷ | BSAI | 196,011 | 119,969 | 66,000 | 58,938 | 7,062 |
Flathead sole ⁸ | BSAI | 81,167 | 66,927 | 35,500 | 31,702 | 3,799 |
Alaska plaice | BSAI | 43,328 | 36,021 | 18,000 | 15,300 |  | 2,700
Other flatfish ⁹ | BSAI | 22,919 | 17,189 | 4,500 | 3,825 |  | 675
Pacific ocean perch | BSAI | 49,279 | 41,322 | 38,264 | 33,667 | n/a |
| BS | n/a | 11,700 | 11,700 | 9,945 |  | 1,755
| EAI | n/a | 8,013 | 8,013 | 7,156 | 857 |
| CAI | n/a | 5,551 | 5,551 | 4,957 | 594 |
| WAI | n/a | 16,058 | 13,000 | 11,609 | 1,391 |
Northern rockfish | BSAI | 22,105 | 18,135 | 11,000 | 9,350 |  | 1,650
Blackspotted/Rougheye rockfish ¹⁰ | BSAI | 763 | 570 | 570 | 485 |  | 86
| BS/EAI | n/a | 388 | 388 | 330 |  | 58
| CAI/WAI | n/a | 182 | 182 | 155 |  | 27
Shortraker rockfish | BSAI | 706 | 530 | 530 | 451 |  | 80
Other rockfish ¹¹ | BSAI | 1,680 | 1,260 | 1,260 | 1,071 |  | 189
| BS | n/a | 880 | 880 | 748 |  | 132
| AI | n/a | 380 | 380 | 323 |  | 57
Atka mackerel | BSAI | 101,188 | 86,464 | 66,855 | 59,702 | 7,153 |
| EAI/BS | n/a | 37,958 | 30,000 | 26,790 | 3,210 |
| CAI | n/a | 15,218 | 15,218 | 13,590 | 1,628 |
| WAI | n/a | 33,288 | 21,637 | 19,322 | 2,315 |
Skates | BSAI | 44,168 | 36,837 | 27,927 | 23,738 |  | 4,189
Sharks | BSAI | 689 | 450 | 250 | 213 |  | 38
Octopuses | BSAI | 4,769 | 3,576 | 400 | 340 |  | 60
Total |  | 6,219,700 | 3,590,412 | 2,000,000 | 1,779,703 | 194,185 | 13,928
Note: Regulatory areas and districts are defined at § 679.2 (BSAI=Bering Sea and Aleutian Islands management area, BS=Bering Sea subarea, AI=Aleutian Islands subarea, EAI=Eastern Aleutian district, CAI=Central Aleutian district, WAI=Western Aleutian district).
¹ These amounts apply to the entire BSAI management area unless otherwise specified. With the exception of pollock, and for the purpose of these harvest specifications, the Bering Sea subarea (BS) includes the Bogoslof District.
² Except for pollock, the portion of the sablefish TAC allocated to fixed gear, and Amendment 80 species (Atka mackerel, flathead sole, rock sole, yellowfin sole, Pacific cod, and Aleutian Islands Pacific ocean perch), 15 percent of each TAC is put into a non-specified reserve (§ 679.20(b)(1)(i)). The ITAC for these species is the remainder of the TAC after the subtraction of these reserves. For pollock and Amendment 80 species, ITAC is the non-CDQ allocation of TAC (see footnotes 3 and 4).
³ For the Amendment 80 species (Atka mackerel, flathead sole, rock sole, yellowfin sole, Pacific cod, and Aleutian Islands Pacific ocean perch), 10.7 percent of the TAC is reserved for use by CDQ participants (see §§ 679.20(b)(1)(ii)(C)). 20 percent of the sablefish TAC allocated to fixed gear, 7.5 percent of the sablefish TAC allocated to trawl gear, and 10.7 percent of the TACs for Bering Sea Greenland turbot and arrowtooth flounder are reserved for use by CDQ participants (see § 679.20(b)(1)(ii)(B) and (D)). The 2024 fixed gear portion of the sablefish ITAC and CDQ reserve will not be specified until the final 2024 and 2025 harvest specifications. Aleutian Islands Greenland turbot, “other flatfish,” Alaska plaice, Bering Sea Pacific ocean perch, Kamchatka flounder, northern rockfish, shortraker rockfish, blackspotted/rougheye rockfish, “other rockfish,” skates, sharks, and octopuses are not allocated to the CDQ program.
⁴ Under § 679.20(a)(5)(i)(A), the annual BS pollock TAC, after subtracting first for the CDQ directed fishing allowance (10 percent) and second for the incidental catch allowance (50,000 mt), is further allocated by sector for a pollock directed fishery as follows: inshore—50 percent; catcher/processor—40 percent; and motherships—10 percent. Under § 679.20(a)(5)(iii)(B)(2), the annual AI pollock TAC, after subtracting first for the CDQ directed fishing allowance (10 percent) and second for the incidental catch allowance (2,500 mt), is allocated to the Aleut Corporation for a pollock directed fishery.
⁵ The BS Pacific cod TAC is set to account for the 12 percent, plus 45 mt, of the BS ABC for the State of Alaska's (State) guideline harvest level in State waters of the BS. The AI Pacific cod TAC is set to account for 39 percent of the AI ABC for the State guideline harvest level in State waters of the AI.
⁶ The sablefish OFL and ABC are Alaska-wide and include the Gulf of Alaska. The Alaska-wide sablefish OFL and ABC are included in the total OFL and ABC. The BS and AI sablefish TACs are set to account for the 5 percent of the BS and AI ABC for the State of Alaska's (State) guideline harvest level in State waters of the BS and AI.
⁷ “Rock sole” includes Lepidopsetta polyxystra (Northern rock sole) and Lepidopsetta bilineata (Southern rock sole).
⁸ “Flathead sole” includes Hippoglossoides elassodon (flathead sole) and Hippoglossoides robustus (Bering flounder).
⁹ “Other flatfish” includes all flatfish species, except for halibut (a prohibited species), Alaska plaice, arrowtooth flounder, flathead sole, Greenland turbot, Kamchatka flounder, rock sole, and yellowfin sole.
¹⁰ “Blackspotted/Rougheye rockfish” includes Sebastes melanostictus (blackspotted) and Sebastes aleutianus (rougheye).
¹¹ “Other rockfish” includes all Sebastes and Sebastolobus species except for dark rockfish, Pacific ocean perch, northern rockfish, blackspotted/rougheye rockfish, and shortraker rockfish.

3. Table 8, appearing on page 14937, should appear as follows:

Table 8—Final 2023 Sector Allocations and Seasonal Allowances of the BSAI Pacific Cod TAC
[Amounts are in metric tons]
Sector | Percent | 2023 share of total | 2023 share of sector total | 2023 seasonal apportionment: Season | 2023 seasonal apportionment: Amount
BS TAC | n/a | 127,409 | n/a | n/a | n/a
BS CDQ | n/a | 13,633 | n/a | see § 679.20(a)(7)(i)(B) | n/a
BS non-CDQ TAC | n/a | 113,776 | n/a | n/a | n/a
AI TAC | n/a | 8,425 | n/a | n/a | n/a
AI CDQ | n/a | 901 | n/a | see § 679.20(a)(7)(i)(B) | n/a
AI non-CDQ TAC | n/a | 7,524 | n/a | n/a | n/a
Area 543 Western Aleutian Island Limit | n/a | 2,233 | n/a | n/a | n/a
Total BSAI non-CDQ TAC ¹ | 100 | 121,300 | n/a | n/a | n/a
Total hook-and-line/pot gear | 60.8 | 73,750 | n/a | n/a | n/a
Hook-and-line/pot ICA ² | n/a | 500 | n/a | see § 679.20(a)(7)(ii)(B) | n/a
Hook-and-line/pot sub-total | n/a | 73,250 | n/a | n/a | n/a
Hook-and-line catcher/processor | 48.7 | n/a | 58,672 | Jan 1-Jun 10 | 29,923
|  |  |  | Jun 10-Dec 31 | 28,750
Hook-and-line catcher vessel ≥60 ft LOA | 0.2 | n/a | 241 | Jan 1-Jun 10 | 123
|  |  |  | Jun 10-Dec 31 | 118
Pot catcher/processor | 1.5 | n/a | 1,807 | Jan 1-Jun 10 | 922
|  |  |  | Sept 1-Dec 31 | 886
Pot catcher vessel ≥60 ft LOA | 8.4 | n/a | 10,120 | Jan 1-Jun 10 | 5,161
|  |  |  | Sept 1-Dec 31 | 4,959
Catcher vessel <60 ft LOA using hook-and-line or pot gear | 2.0 | n/a | 2,410 | n/a | n/a
Trawl catcher vessel | 22.1 | 26,807 | n/a | Jan 20-Apr 1 | 19,837
|  |  |  | Apr 1-Jun 10 | 2,949
|  |  |  | Jun 10-Nov 1 | 4,021
AFA trawl catcher/processor | 2.3 | 2,790 | n/a | Jan 20-Apr 1 | 2,092
|  |  |  | Apr 1-Jun 10 | 697
|  |  |  | Jun 10-Nov 1 |
Amendment 80 | 13.4 | 16,254 | n/a | Jan 20-Apr 1 | 12,191
|  |  |  | Apr 1-Jun 10 | 4,064
|  |  |  | Jun 10-Dec 31 |
Jig | 1.4 | 1,698 | n/a | Jan 1-Apr 30 | 1,019
|  |  |  | Apr 30-Aug 31 | 340
|  |  |  | Aug 31-Dec 31 | 340
Note: Seasonal or sector apportionments may not total precisely due to rounding.
¹ The sector allocations and seasonal allowances for BSAI Pacific cod TAC are based on the sum of the BS and AI Pacific cod TACs, after the subtraction of the reserves for the CDQ program. If the TAC for Pacific cod in either the AI or BS is or will be reached, then directed fishing for non-CDQ Pacific cod in that subarea will be prohibited, even if a BSAI allowance remains (§ 679.20(d)(1)(iii)).
² The ICA for the hook-and-line and pot sectors will be deducted from the aggregate portion of Pacific cod TAC allocated to the hook-and-line and pot sectors. The Regional Administrator approves an ICA of 500 mt for 2023 based on anticipated incidental catch by these sectors in other fisheries.

4. Table 9, beginning on page 14937, should appear as follows:

Table 9—Final 2024 Sector Allocations and Seasonal Allowances of the BSAI Pacific Cod TAC
[Amounts are in metric tons]
Sector | Percent | 2024 share total | 2024 share of sector total | 2024 seasonal apportionment: Season | 2024 seasonal apportionment: Amount
BS TAC | n/a | 123,295 | n/a | n/a | n/a
BS CDQ | n/a | 13,193 | n/a | see § 679.20(a)(7)(i)(B) | n/a
BS non-CDQ TAC | n/a | 110,102 | n/a | n/a | n/a
AI TAC | n/a | 8,425 | n/a | n/a | n/a
AI CDQ | n/a | 901 | n/a | see § 679.20(a)(7)(i)(B) | n/a
AI non-CDQ TAC | n/a | 7,524 | n/a | n/a | n/a
Area 543 Western Aleutian Island Limit | n/a | 2,233 | n/a | n/a | n/a
Total BSAI non-CDQ TAC ¹ | n/a | 117,626 | n/a | n/a | n/a
Total hook-and-line/pot gear | 60.8 | 71,517 | n/a | n/a | n/a
Hook-and-line/pot ICA ² | n/a | 500 | n/a | see § 679.20(a)(7)(ii)(B) | n/a
Hook-and-line/pot sub-total | n/a | 71,017 | n/a | n/a | n/a
Hook-and-line catcher/processor | 48.7 | n/a | 56,883 | Jan 1-Jun 10 | 29,011
|  |  |  | Jun 10-Dec 31 | 27,873
Hook-and-line catcher vessel ≥60 ft LOA | 0.2 | n/a | 234 | Jan 1-Jun 10 | 119
|  |  |  | Jun 10-Dec 31 | 114
Pot catcher/processor | 1.5 | n/a | 1,752 | Jan 1-Jun 10 | 894
|  |  |  | Sept 1-Dec 31 | 859
Pot catcher vessel ≥60 ft LOA | 8.4 | n/a | 9,812 | Jan 1-Jun 10 | 5,004
|  |  |  | Sept 1-Dec 31 | 4,808
Catcher vessel <60 ft LOA using hook-and-line or pot gear | 2.0 | n/a | 2,336 | n/a | n/a
Trawl catcher vessel | 22.1 | 25,995 | n/a | Jan 20-Apr 1 | 19,237
|  |  |  | Apr 1-Jun 10 | 2,859
|  |  |  | Jun 10-Nov 1 | 3,899
AFA trawl catcher/processor | 2.3 | 2,705 | n/a | Jan 20-Apr 1 | 2,029
|  |  |  | Apr 1-Jun 10 | 676
|  |  |  | Jun 10-Nov 1 |
Amendment 80 | 13.4 | 15,762 | n/a | Jan 20-Apr 1 | 11,821
|  |  |  | Apr 1-Jun 10 | 3,940
|  |  |  | Jun 10-Dec 31 |
Jig | 1.4 | 1,647 | n/a | Jan 1-Apr 30 | 988
|  |  |  | Apr 30-Aug 31 | 329
|  |  |  | Aug 31-Dec 31 | 329
Note: Seasonal or sector apportionments may not total precisely due to rounding.
¹ The sector allocations and seasonal allowances for BSAI Pacific cod TAC are based on the sum of the BS and AI Pacific cod TACs, after the subtraction of the reserves for the CDQ program. If the TAC for Pacific cod in either the AI or BS is or will be reached, then directed fishing for non-CDQ Pacific cod in that subarea will be prohibited, even if a BSAI allowance remains (§ 679.20(d)(1)(iii)).
² The ICA for the hook-and-line and pot sectors will be deducted from the aggregate portion of Pacific cod TAC allocated to the hook-and-line and pot sectors. The Regional Administrator approves an ICA of 500 mt for 2024 based on anticipated incidental catch by these sectors in other fisheries.

[FR Doc. C1-2023-04877 Filed 3-27-23; 8:45 am]

BILLING CODE 0099-10-D